FEDERAL MARITIME COMMISSION

Ocean Transportation Intermediary License; Revocations

The Federal Maritime Commission hereby gives notice that the following ocean transportation intermediary licenses have been revoked pursuant to section 19 of the Shipping Act of 1984 (46 U.S.C. app. 1718) and the regulations of the Commission pertaining to the licensing of Ocean Transportation Intermediaries, effective on the corresponding dates shown below:

License Number: 7404N.

Name: Apollo Forwarders, Inc.

Address: 509 First Street, Rodeo, CA 94572.

Date Revoked: November 15, 2000.

Reason: Failed to maintain a valid bond.

License Number: 4061F.

Name: Caribwrap Inc. d/b/a Five Star Forwarding.

Address: 8140 N.W. 74th Avenue, Suite #18, Miami, FL 33166.

Date Revoked: November 15, 2000.

Reason: Failed to maintain a valid bond.

License Number: 4550F.

Name: Cynthia A. Keefe d/b/a 'Round The World Exports.

Address: 213 Lynnhaven Drive, North Syracuse, NY 13212.

Date Revoked: November 19, 2000.

Reason: Failed to maintain a valid bond.

License Number: 7394N.

Name: Gateways International, Inc. d/b/a Bekins Wide World.

Address: 2030 First Avenue, Suite 200, Seattle, WA 98121-2112.

Date Revoked: November 18, 2000.

Reason: Failed to maintain a valid bond.

License Number: 2062N and 2062F.

Name: N. Abbe International, Inc.

Address: 2 World Trade Center, Suite 2844, New York, NY 10048

Date Revoked: October 18, 2000 and November 22, 2000.

Reason: Failed to maintain valid bonds.

License Number: 798R.

Name: Mary Morris Reid d/b/a Reid & Company.

Address: 150 Marine Street, Lake Charles, LA 70601.

Date Revoked: December 4, 2000.

Reason: Failed to maintain a valid bond.

License Number: 4292F.

Name: Satt International Forwarding Inc.

Address: 147-35 Farmers Blvd., Suite 202, Jamaica, NY 11434-5217.

Date Revoked: November 15, 2000.

Reason: Failed to maintain a valid bond.

License Number: 4351F.

Name: Shin Wha Park d/b/a Grand Bell Maritime, U.S.A.

Address: 623 E. Artesia Blvd., Carson, CA 90746.

Date Revoked: November 15, 2000.

Reason: Failed to maintain a valid bond.

License Number: 4574F.

Name: Zaky Transportation Services, Inc.

Address: 8600 N.W. 66th Street, Miami, FL 33166.

Date Revoked: November 18, 2000.

Reason: Failed to maintain a valid bond.

Sandra L. Kusumoto,
Director, Bureau of Consumer Complaints and Licensing.

[FR Doc. 01-1512 Filed 1-17-01; 8:45 am]

BILLING CODE 6730-01-P